DEPARTMENT OF THE INTERIOR

Bureau of Reclamation

Northwest Area Water Supply Project, ND

AGENCY: Bureau of Reclamation, Interior.

ACTION: Notice of availability of Final Environmental Impact Statement (Final EIS) on Water Treatment.

SUMMARY: Pursuant to the National Environmental Policy Act of 1969 (NEPA), the Bureau of Reclamation (Reclamation) is notifying the public that Reclamation has prepared a Final EIS on Water Treatment for the Northwest Area Water Supply Project (Project). The proposed action is to construct a biota water treatment plant for the Project to treat the source water from Lake Sakakawea before it is delivered into the Hudson Bay basin. The Final EIS provides information and analyses related to four water treatment alternatives that would further reduce the risk of a Project-related biological invasion from the Missouri River basin into the Hudson Bay basin. Reclamation published a Draft EIS on December 21, 2007. The public comment period continued through March 26, 2008. Revisions were made in the Final EIS to incorporate responses to comments and identify the preferred alternative and the associated cost estimate. However, these revisions do not significantly impact the analysis or results presented in the Draft EIS. The Final EIS includes written responses to all public comments on the Draft EIS.

DATES: Reclamation will not make a decision on the proposed action until at least 30 days after filing of the Final EIS. After the 30-day waiting period, Reclamation will complete a Record of Decision. The Record of Decision will identify the selected action for implementation and will discuss factors and rationale used in making the decision.

FOR FURTHER INFORMATION CONTACT: Alicia Waters, Northwest Area Water Supply Project EIS, Bureau of Reclamation, Dakotas Area Office, P.O. Box 1017, Bismarck ND 58502; Telephone: (701) 221-1206, or FAX to (701) 250-4326. You may submit an e-mail to awaters@gp.usbr.gov. Additional information is available to the public regarding this EIS and is posted on the Web site http://www.usbr.gov/gp/dkao.

SUPPLEMENTARY INFORMATION:

Background: The Garrison Diversion Unit's Municipal, Rural, and Industrial Water Supply (MR&I) program was authorized by the U.S. Congress on May 12, 1986, through the Garrison Diversion Unit Reformulation Act of 1986. This Act authorized the appropriation of $200 million of Federal funds for the planning and construction of water supply facilities throughout North Dakota. This Project is designed as a bulk water distribution system that will service local communities and rural water systems in 10 counties in northwestern North Dakota including the community of Minot. The Project is an inter-basin transfer of water from Lake Sakakawea, in the Missouri River basin to the water treatment plant (WTP) in Minot, North Dakota, in the Hudson Bay basin. Reclamation completed an Environmental Assessment (EA) and issued a Finding of No Significant Impact (FONSI) for the Project in 2001. Project construction began in April 2002. In October 2002, the Province of Manitoba, Canada filed a legal challenge in U.S. District Court in Washington DC to compel the Department of the Interior to complete an EIS on the Project. A Court Order dated February 3, 2005, remanded the case to Reclamation for completion of additional environmental analysis.

Subsequent orders issued by the District Court allowed construction to continue on the distribution systems of the Project while the EIS was being prepared. Construction of the main water pipeline between Lake Sakakawea and the Minot WTP was completed in 2008. This buried pipeline was constructed with several safeguards which further reduce the risk of a pipeline breach resulting in a Project-related biological invasion.

Alternatives: The purpose of the proposed action is to adequately treat the Project water from the Missouri River basin (Lake Sakakawea) to further reduce the risk of a Project-related biological invasion into the Hudson Bay basin. The Final EIS considers four water treatment alternatives, a no action alternative and three action alternatives, to meet the purpose and need for the proposed action. Each of the alternatives evaluated include treatment processes which would occur within the Missouri River basin prior to the water being pumped through the buried pipeline to the Minot WTP. At the Minot WTP, the water would be treated to meet Safe Drinking Water Act standards.

Alternatives evaluated in the Final EIS include a no action alternative, as required by NEPA, and three action alternatives. The alternatives evaluated are:

• No Action. The selected action alternative in the FONSI (Reclamation 2001) was evaluated as the No Action Alternative in the EIS. The treatment process includes chemical disinfection of Missouri River water prior to delivery into the Hudson Bay basin. Ultraviolet (UV) disinfection would be provided along with softening and filtration at the existing Minot WTP.

• Basic Treatment. This treatment alternative would include a pretreatment (coagulation, flocculation, sedimentation) process followed by chemical and UV disinfection prior to crossing the drainage divide. The purpose of the pre-treatment process is to reduce raw water turbidity which can influence the effectiveness of the disinfection processes. Softening and filtration would be provided at the existing Minot WTP.

• Conventional Treatment. This treatment would include a pre-treatment of Dissolved Air Flotation followed by media filtration and disinfection using UV and chemicals (chlorine and chloramines) within the Missouri River basin. Softening and filtration would be provided at the existing Minot WTP.

• Microfiltration. This treatment alternative would include pre-treatment (coagulation, pin floc) followed by membrane filtration and chemical and UV disinfection processes prior to the water crossing the drainage divide. Softening and filtration would be provided at the existing Minot WTP.

The Preferred Alternative identified in the Final EIS includes a combination of the treatment processes evaluated in the alternatives described previously. The treatment process of the Preferred Alternative would include the chemical disinfection evaluated as part of the No Action Alternative and the UV disinfection process evaluated as part of the action alternatives. After this treatment within the Missouri River basin, the water would be pumped through the existing pipeline to the Minot WTP where it would be treated with lime softening and filtration to meet Safe Drinking Water Act standards.

All of the treatment alternatives evaluated would effectively inactivate and/or remove a broad range of organisms, including all of the potentially invasive species evaluated in the Final EIS. Estimated costs for construction and annual operation, maintenance and replacement of the alternatives evaluated are provided in the Final EIS.

Public Review Locations: The Final EIS is available for public inspection at the following locations:

• Bismarck Public Library, 515 North 5th Street, Bismarck, ND.

• Minot Public Library, 516 2nd Avenue SW., Minot, ND.

• Dakotas Area Office, Bureau of Reclamation, 304 East Broadway, Bismarck, ND.

• Bureau of Indian Affairs, Fort Berthold Agency, 202 Main Street, New Town, ND.

• North Dakota State Library, 603 East Boulevard Avenue, Bismarck, ND.

• Standing Rock Administrative Service Center, Building 1, North Standing Rock Avenue, Fort Yates, ND.

• Mohall Public Library, 112 Main Street East, Mohall, ND.

• Bottineau City Hall, 115 West 6th Street, Bottineau, ND.

Dated: November 26, 2008.
Bobbi C. Sherwood-Widmann,
Acting, Assistant Regional Director, Great Plains Region.

[FR Doc. E8-28829 Filed 12-4-08; 8:45 am]

BILLING CODE 4310-MN-P